DEPARTMENT OF HOMELAND SECURITY

Coast Guard

[Docket No. USCG-2017-0894]

RIN 1625-ZA37

Update to the 2016 National Preparedness for Response Exercise Program (PREP) Guidelines; Correction

AGENCY: Coast Guard, DHS.

ACTION: Notice.

SUMMARY: On October 2, 2018, the Coast Guard published a notice of availability of the 2016.1 PREP Guidelines. In the DATES section of the Notice of availability, the effective date of the 2016.1 PREP Guidelines is October 1, 2018. However, in Section 1.3, page1-2, of the 2016.1 PREP Guidelines, the effective date is “60 days after the date of publication in the Federal Register.” The Coast Guard has corrected Section 1.3 of the 2016.1 PREP Guidelines to reflect the effective date is “October 1, 2018.” A corrected version of the 2016.1 PREP Guidelines has been uploaded to the USCG Homeport site at the following link: https://homeport.uscg.mil/missions/incident-management-and-preparedness/contingency-exercises/port-level-exercises/port-level-exercises-general-information.

FOR FURTHER INFORMATION CONTACT: Mr. Jonathan Smith, Office of Marine Environmental Response Policy, U.S. Coast Guard, 202-372-2675.

SUPPLEMENTARY INFORMATION: On page 1-2 of the 2016.1 PREP Guidelines, in Section 1.3, the “Effective Date” is corrected to read: “The 2016.1 PREP Guidelines are effective on October 1, 2018. The PREP Guidelines follow the calendar year (January 1-December 31).” A corrected version of the 2016.1 PREP Guidelines has been uploaded to the Coast Guard Homeport site and can be accessed at https://homeport.uscg.mil/missions/incident-management-and-preparedness/contingency-exercises/port-level-exercises/port-level-exercises-general-information.

Dated: October 4, 2018.
Ricardo M. Alonso,
Captain, U.S. Coast Guard, Chief, Office of Marine Environmental Response and Policy.

[FR Doc. 2018-22214 Filed 10-10-18; 8:45 am]

BILLING CODE 9110-04-P